DEPARTMENT OF COMMERCE

National Oceanic and Atmospheric Administration

Fisheries of the South Atlantic; South Atlantic Fishery Management Council; Public Meeting

AGENCY: National Marine Fisheries Service (NMFS), National Oceanic and Atmospheric Administration (NOAA), Commerce.

ACTION: Notice of a public meeting of the South Atlantic Fishery Management Council's Golden Crab Advisory permit holders.

SUMMARY: The South Atlantic Fishery Management Council will hold a meeting of Golden Crab Permit Holders in Key Largo, FL.

DATES: The meeting will take place August 10, 2012, from 9 a.m. to 5 p.m.

ADDRESSES: The meeting will be held at the Hilton Key Largo Resort, 97000 South Overseas Highway, Key Largo, FL 33037; telephone: (305) 852-5553.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: The Golden Crab permit holders are being brought together to discuss options being considered by the South Atlantic Fishery Management Council that could potentially establish a catch share program in this fishery. Permit holders will be asked to discuss their support for or opposition to a catch share program. There will be an overview of draft Amendment 6 to the Golden Crab Fishery Management Plan for the South Atlantic Region and the permit holderswill discuss potential allocation scenarios and share ownership caps among other management issues for the commercial fishery. The permit holders will discuss alternatives in the amendment and provide recommendations for Council consideration.

Special Accommodations

The meeting is physically accessible to people with disabilities. Requests for auxiliary aids should be directed to the council office (see ADDRESSES) three days prior to the meeting.

Note: The times and sequence specified in this agenda are subject to change.

Dated: July 13, 2012.
Tracey L. Thompson,
Acting Deputy Director, Office of Sustainable Fisheries, National Marine Fisheries Service.

[FR Doc. 2012-17436 Filed 7-17-12; 8:45 am]

BILLING CODE 3510-22-P